DEPARTMENT OF ENERGY

Federal Energy Regulatory Commission

[Docket No. EC04-35-000, et al.]

Madison Gas and Electric Company, et al.; Electric Rate and Corporate Filings

December 10, 2003.

The following filings have been made with the Commission. The filings are listed in ascending order within each docket classification.

1.Madison Gas and Electric Company; MGE Energy, Inc.; MGE Power LLC; MGE Power West Campus LLC

[Docket Nos. EC04-35-000 and EL04-32-000]

Take notice that on December 5, 2003, Madison Gas and Electric Company, MGE Energy, Inc., MGE Power LLC and MGE Power West Campus filed an Application for Approval of the Disposition of Jurisdictional Facilities under section 203 of the Federal Power Act, 16 U.S.C. 824b (2000), and Petition for Declaratory Order. MGE Power West Campus, a non-utility subsidiary of MGE Energy and MGE Power, states that it will develop, construct and own generating assets and associated interconnection facilities and lease those facilities under a long-term lease to its corporate affiliate, MGE.

Comment Date: December 29, 2003.

2.Duquesne Power, L.P.

[Docket No. EG04-21-000]

Take notice that on December 8, 2003, Duquesne Power, L.P., (applicant) filed with the Federal Energy Regulatory Commission an application for determination of exempt wholesale generator status pursuant to part 365 of the Commission's regulations. The applicant is a limited partnership that will engage directly or indirectly and exclusively in the business of owning and/or operating eligible facilities in the United States and selling electric energy at wholesale. The applicant states that it proposes to own and operate an approximately 436 megawatt four-unit coal-fired generating station located in Shamokin Dam, Pennsylvania. The applicant states that it is seeking a determination of its exempt wholesale generator status and all electric energy sold by the applicant will be sold exclusively at wholesale.

Comment Date: December 29, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the ``FERRIS'' link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the ``e-Filing'' link. The Commission strongly encourages electronic filings.

Magalie R. Salas,
Secretary.

[FR Doc. E3-00589 Filed 12-17-03; 8:45 am]

BILLING CODE 6717-01-P